DEPARTMENT OF HEALTH AND HUMAN SERVICES

Office of the Secretary

[Document Identifier: HHS-OS-0990-New-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit a new Information Collection Request (ICR), described below, to the Office of Management and Budget (OMB). Prior to submitting the ICR to OMB, OS seeks comments from the public regarding the burden estimate, below, or any other aspect of the ICR.

DATES: Comments on the ICR must be received on or before July 7, 2015.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-0990-New-60D for reference. Information Collection Request Title: State and Territorial Health Disparities Survey Abstract: The Office of Minority Health (OMH), Office of the Secretary (OS) is requesting approval from the Office of Management and Budget (OMB) for a new data collection activity for the State and Territorial Health Disparities Survey (STHD Survey).

OMH has a long history of collaborating with states to improve minority health outcomes and reduce health and health care disparities. A strong partnership with state and territorial offices is a key to continue progress toward eliminating health disparities. To best facilitate continued partnerships, OMH needs information about the current activities, challenges, and resources within state and territorial offices of minority health. The State and Territorial Health Disparities Survey is intended to support OMH informational needs by collecting, organizing, and presenting a variety of information about states and U.S. territories, including the current status of minority health and health disparities, the organization and operation of state and territorial offices of minority health, and state/territorial implementation of federal standards and evidence-based practices designed to address disparities and improve minority health. The STHD Survey, which will focus on the activities, staffing, and funding of State Minority Health Entities, is part of a larger project to catalog the extent of health disparities and the activities underway to reduce them in each state and U.S. territory. The STHD Survey supports OMH's goals of working with states and territories to improve the health of racial and ethnic minority populations and eliminate health disparities. While existing, state/territorial-specific information sources (e.g., quantitative data points available from the Agency for Healthcare Research and Quality's National Healthcare Disparities Report State Snapshots) offer important facts about the status of health disparities, they do not provide context around the efforts underway to reduce them.

Likely Respondents—Data will be collected using semi-structured telephone interviews with state/territorial minority health entity directors (or their designees) in approximately 54 states and territories (50 states plus the District of Columbia and the U.S. territories of Guam, Puerto Rico, and the U.S. Virgin Islands). The purpose of this interview is to collect qualitative information about state/territory program goals and activities, partnerships, and organizational structure, as well as quantitative data elements on staffing and funding.

Total Estimated Annualized Burden—Hours
Form name | Number of respondents | Number of responses per respondents | Average hours per response | Total burden hours
State and Territorial Survey | 54 | 1 | 1.5 | 81
Total | 54 |  |  | 81

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Terry S. Clark,
Asst Information Collection Clearance Officer.

[FR Doc. 2015-11204 Filed 5-7-15; 8:45 am]

BILLING CODE 4150-29-P